DEPARTMENT OF ENERGY

Federal Energy Regulatory Commission

[Project No. 14581-000]

Turlock Irrigation District, Modesto Irrigation District, La Grange Hydroelectric Project; Notice of Dispute Resolution Panel Meeting and Technical Conference

On March 16, 2015, Commission staff, in response to the filing of a notice of study dispute by the U.S. National Marine Fisheries Service on February 23, 2015, convened a single three-person Dispute Resolution Panel (Panel) pursuant to 18 CFR 5.14(d).

The Panel will hold a technical conference at the time and place identified below. The technical conference will address the study dispute regarding potential effects of the La Grange Project (P-14581) on the genetic makeup of steelhead/rainbow trout in the Tuolumne River. As directed by the Commission's letter issued on February 27, 2015, the panel will not consider the study dispute on Tuolumne River habitats for anadromous fish.

The purpose of the technical session is for the disputing agency, applicant, and Commission to provide the Panel with additional information necessary to evaluate the disputed studies. All local, state, and federal agencies, Indian tribes, and other interested parties are invited to attend the meeting as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at its discretion, limit the speaking time for each participant.

For more information, please contact Nicholas Ettema, the Dispute Resolution Panel Chair, at nicholas.ettema@ferc.gov or 202-502-6565.

Technical Conference

Date: Tuesday, March 31, 2015

Time: 9:00 a.m.-1:00 p.m. (PDT)

Place: Holiday Inn Sacramento—Capitol Plaza, 300 J Street, Sacramento, CA 95814

Dated: March 17, 2015.
Kimberly D. Bose,
Secretary.

[FR Doc. 2015-06633 Filed 3-23-15; 8:45 am]

BILLING CODE 6717-01-P